DEPARTMENT OF TRANSPORTATION

Federal Highway Administration

Notice of Final Federal Agency Actions on the Interstate 81 Corridor Improvement Study in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the Interstate 81 Corridor Improvement Study in Virginia. The Federal actions, taken as a result of Tier 1 of a tiered environmental review process under the National Environmental Policy Act, 42 U.S.C. 4321-4351 (NEPA), and implementing regulations on tiering, 40 CFR 1502.20, 40 CFR 1508.28, and 23 CFR 771, determined certain issues relating to the study. Those Tier 1 decisions will be used by Federal agencies in subsequent tier proceedings, including decisions on whether to grant licenses, permits, and approvals for highway projects. The Tier 1 decisions may also be relied upon by State and local agencies in subsequent proceedings.

DATES: By this notice, the FHWA is advising the public that it has made decisions that are subject to 23 U.S.C. 139(l)(1) and are final with respect to Tier 1 within the meaning of that law. A claim seeking judicial review of the Tier 1 Federal agency decisions on the Interstate 81 Corridor Improvement Study will be barred unless the claim is filed on or before December 17, 2007. If the Federal law that authorizes judicial review of a claim provides a time period of less that 180 days for filing such claim, then that shorter time period still applies.

FOR FURTHER INFORMATION CONTACT: Mr. John Simkins, I-81 Corridor Environmental Project Manager, Federal Highway Administration, 400 North 8th Street, Suite 750, Richmond, Virginia 23219-4825; telephone: (804) 775-3342; e-mail: John.Simkins@dot.gov. The FHWA Virginia Division Office's normal business hours are 7 a.m. to 5 p.m. (eastern time). For the Virginia Department of Transportation: Mr. Chris Collins, Project Studies Manager, Virginia Department of Transportation, 1401 East Broad Street, Richmond, Virginia 23219; telephone (804) 225-4249; e-mail: CG.Collins@VirginiaDOT.org.

SUPPLEMENTARY INFORMATION: Notice is hereby given that FHWA has issued a Tier 1 Final Environmental Impact Statement and Tier 1 Record of Decision for the Interstate 81 Corridor Improvement Study in Virginia. Decisions in the Tier 1 Record of Decision include the following:

1. Improvement concept to be advanced;

2. Advancing I-81 as a toll pilot facility under Section 1216(b) of the Transportation Equity Act of the 21st Century (TEA-21);

3. Projects with independent utility and logical termini to be studied in Tier 2;

4. Types of Tier 2 NEPA document(s);

5. Location of the corridor for studying alignments in Tier 2; and

6. Possible purchase of certain right-of-way parcels on a case-by-case basis.

Interested parties may consult the Tier 1 Record of Decision and Tier 1 Final Environmental Impact Statement for further information on each of the decisions described above.

The Tier 1 actions by FHWA, and the law under which such actions were taken, are described in the Tier 1 Final Environmental Impact Statement approved March 21, 2007, the Tier 1 Record of Decision issued June 6, 2007, and in other documents in the FHWA project records. The Tier 1 Final Environmental Impact Statement, the Tier 1 Record of Decision, and other documents in the FHWA project records are available by contacting the FHWA or the Virginia Department of Transportation at the address provided above. The Tier 1 Final Environmental Impact Statement and Tier 1 Record of Decision are also available online at http://www.I-81.org.

This notice applies to all FHWA Tier 1 decisions that are final within the meaning of 23 U.S.C. 139(l)(1) as of the issuance date of this notice and all laws under which such actions were taken, including:

1. General: National Environmental Policy Act (NEPA) [42 U.S.C. 4321-4351].

(Catalog of Federal Domestic Assistance Program Number 20.205, Highway Planning and Construction. The regulations implementing Executive Order 12372 regarding intergovernmental consultation on Federal programs and activities apply to this program.)

Authority: 23 U.S.C. 139(l)(1).

Issued On: June 12, 2007.
John Simkins,
I-81 Corridor Environmental Project Manager.

[FR Doc. 07-2984 Filed 6-15-07; 8:45 am]

BILLING CODE 4940-RY-M